DEPARTMENT OF THE INTERIOR

Bureau of Land Management

[20X.LLAKA02000.L16100000.DS0000.LXSS043L0000.241A]

Notice of Availability of the Record of Decision and Final Environmental Impact Statement for the Haines Amendment to the Ring of Fire Resource Management Plan

AGENCY: Bureau of Land Management, Interior.

ACTION: Notice of availability.

SUMMARY: The Bureau of Land Management (BLM) announces the availability of the Record of Decision (ROD) and Approved Haines Amendment to the Ring of Fire Resource Management Plan (RMP) for the BLM-managed public lands in the Haines area of Alaska. The State Director signed the ROD on February 7, 2020, which constitutes the BLM's final decision and makes the ROD effective immediately.

ADDRESSES: The ROD is available on the BLM ePlanning website at https://go.usa.gov/xpuEW. Click on the Documents and Reports link to find the electronic version of these materials. Hard copies of the ROD are available for public inspection at the following locations:

• BLM Glennallen Field Office, Milepost 186.5 Glenn Highway, Glennallen, Alaska 99588; BLM Alaska Public Information Center, Federal Building, 222 West 7th Avenue, Anchorage, Alaska 99513;

• Haines Borough Public Library, 111 3rd Avenue Haines, Alaska 99827;

• Municipality of Skagway Borough, 700 Spring Street, Skagway, Alaska 99840;

• BLM Anchorage District Office, 4700 BLM Road, Anchorage, Alaska 99507; and

• Alaska Resources Library and Information Services, 3211 Providence Drive, Suite 111, Anchorage, Alaska 99507.

FOR FURTHER INFORMATION CONTACT: Bruce Loranger, BLM Anchorage District Office, telephone: 907-267-1221, email: bloranger@blm.gov. People who use a telecommunications device for the deaf (TDD) may call the Federal Relay Service (FRS) at 1-800-877-8339 to contact the above individual during normal business hours. The FRS is available 24 hours a day, 7 days a week, to leave a message or question with the above individual. You will receive a reply during normal business hours.

SUPPLEMENTARY INFORMATION: The Haines planning area is located in Southeast Alaska, bounded by the Canadian Border to the north and west, Glacier Bay National Park to the southwest, and the Tongass National Forest to the south and east. This planning area consists mainly of steep and remote mountainous terrain, with bedrock and glaciers that restrict road and trail access. Of the approximately 920,000 total acres within the planning area, the BLM manages approximately 317,000 acres. The size of the planning area has changed since signing of the Ring of Fire RMP Record of Decision (ROD) in 2008 due to the conveyance of several sections of BLM-managed lands to the State of Alaska.

The purpose of this planning effort was to identify which designations, associated management practices, and implementation actions best fulfill the resource and multiple-use needs within the Haines planning area. It also evaluated an Area of Critical Environmental Concern, as required by the Ring of Fire RMP ROD. In addition, this planning effort considered the results of a multi-year, BLM-funded study of goat and bear habitat in the Haines area by the Alaska Department of Fish and Game, completed in 2017. This amendment revises the applicable portions of the Ring of Fire RMP and provides a plan which is consistent with evolving law, regulations, and policy.

The BLM prepared an EIS in accordance with the National Environmental Policy Act of 1969 to analyze the direct, indirect, and cumulative environmental impacts associated with the proposed action and the alternatives. The ROD approves the Agency Preferred Alternative identified in the Final EIS. The BLM issued the ROD based on compliance with relevant laws, regulations, policies, and plans, including those guiding agency decisions that may have an impact on resources and their values, services, and functions.

On Oct. 7, 2019, the Notice of Availability (NOA) for the Haines Amendment to the Ring of Fire RMP and Final EIS was published in the Federal Register. The publication of the NOA initiated a 30-day protest period for the proposed land-use-planning decision. NOA publication also initiated a simultaneous 60-day review by the Governor of Alaska to identify inconsistencies with State or local plans, policies, or programs.

At the close of the protest period three protests (of which two were found to have standing) were received. These protests were resolved by the BLM Director; individual protest response letters were sent to all protesting parties. Protest resolution is contained in the Director's Protest Summary Report, which is available online at https://www.blm.gov/programs/planning-and-nepa/public-participation/protest-resolution-reports. The Alaska Governor's review found that the RMP Amendment is consistent with state plans, policies, and programs.

(Authority: 16 U.S.C. 3120(a); 40 CFR 1506.6(b))

Chad B. Padgett,
State Director, Alaska.

[FR Doc. 2020-03010 Filed 2-13-20; 8:45 am]

BILLING CODE 4310-JA-P